FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted May 1, 2018 thru May 31, 2018
05/02/2018
20181035 | G | Elliott International Limited; Commvault Systems, Inc.; Elliott International Limited.
20181036 | G | Elliott Associates, L.P.; Commvault Systems, Inc.; Elliott Associates, L.P.
20181105 | G | AEA Investors Fund V LP; Theodore Waitt; AEA Investors Fund V LP.
20181110 | G | Alexion Pharmaceuticals, Inc.; Wilson Therapeutics AB; Alexion Pharmaceuticals, Inc.
20181112 | G | The Scotts Miracle-Gro Company; Craig Hargreaves; The Scotts Miracle-Gro Company.
20181121 | G | Merck & Co., Inc.; Moderna Therapeutics, Inc.; Merck & Co., Inc.
20181128 | G | Athena Parent, Inc.; JMI Equity Fund VII, L.P.; Athena Parent, Inc.
20181134 | G | SPX Corporation; ELXSI Corporation; SPX Corporation.
05/03/2018
20181048 | G | Agilent Technologies, Inc.; Lasergen, Inc.; Agilent Technologies, Inc.
20181084 | G | TPG Growth III (A), L.P.; Tanium Inc.; TPG Growth III (A), L.P.
20181085 | G | TPG Growth IV, L.P.; Tanium, Inc.; TPG Growth IV, L.P.
05/04/2018
20181132 | G | Vertex Holdco LLC; VeriFone Systems, Inc.; Vertex Holdco LLC.
20181138 | G | Andrea Pignataro; Fidessa Group PLC; Andrea Pignataro.
20181140 | G | GC Valiant LP; Cubic Corporation; GC Valiant LP.
20181143 | G | Strada Education Network, Inc.; 2297984 Ontario Limited; Strada Education Network, Inc.
20181147 | G | American Water Works Company, Inc.; The Southern Company; American Water Works Company, Inc.
20181150 | G | Green Equity Investors Side VII, L.P.; Berkshire Fund VIII, L.P.; Green Equity Investors Side VII, L.P.
20181151 | G | Wrangler Aggregator Holdings, L.P.; Alpine Holdings Inc.; Wrangler Aggregator Holdings, L.P.
20181174 | G | CM Emergence Newco Inc.; Cumulus Media Inc.; CM Emergence Newco Inc.
05/07/2018
20181103 | G | ASM Pacific Technology Limited; Tokyo Electron Limited; ASM Pacific Technology Limited.
20181106 | G | The Resolute Fund IV, L.P.; REP SV I-A, L.P.; The Resolute Fund IV, L.P.
20181117 | G | HCL Technologies Limited; Garnett & Helfrich Capital, L.P.; HCL Technologies Limited.
05/08/2018
20181072 | G | Plantronics, Inc.; Triangle Private Investments, LLC; Plantronics, Inc.
20181073 | G | Triangle Private Investments, LLC; Plantronics, Inc.; Triangle Private Investments, LLC.
20181159 | G | Adecco Group AG; General Assembly Space, Inc.; Adecco Group AG.
20181162 | G | GWG Holdings, Inc.; The Beneficient Company Group, L.P.; GWG Holdings, Inc.
05/10/2018
20181165 | G | SWF Holdings LP; Golden Gate Capital Opportunity Fund, L.P.; SWF Holdings LP.
05/11/2018
20181126 | G | Pl Jersey Topco Limited; iPayment Holdings, Inc.; Pl Jersey Topco Limited.
20181144 | G | Learning Technologies Group, plc; Charles S. Jones; Learning Technologies Group, plc.
20181169 | G | McCoy Group, Inc.; Deere & Company; McCoy Group, Inc.
20181176 | G | Emerson Electric Company; Textron Inc.; Emerson Electric Company.
20181177 | G | Cerberus Institutional Partners VI, L.P.; KPS Special Situations Fund IV, LP; Cerberus Institutional Partners VI, L.P.
20181179 | G | Gulf Pacific Power, LLC; CPP II Southeast Gen Coinvestment, L.P.; Gulf Pacific Power, LLC.
20181180 | G | Vulcan Materials Company; Gene E. Smith; Vulcan Materials Company.
20181185 | G | Waste Connections, Inc.; Joseph R. Vinagro; Waste Connections, Inc.
20181188 | G | The Weir Group PLC; ESCO Corporation; The Weir Group PLC.
20181192 | G | Aveanna Healthcare Holdings, Inc.; Premier Healthcare Services, LLC; Aveanna Healthcare Holdings, Inc.
20181195 | G | Carlyle Partners VII Cayman, L.P.; Akzo Nobel N.V.; Carlyle Partners VII Cayman, L.P.
20181196 | G | Allscripts Healthcare Solutions, Inc.; Raj Toleti; Allscripts Healthcare Solutions, Inc.
20181198 | G | John D. Idol; Michael Kors Holdings Limited; John D. Idol.
20181199 | G | Michael Kors; Michael Kors Holdings Limited; Michael Kors.
20181204 | G | KKR & Co. L.P.; USI Advantage Corp.; KKR & Co. L.P.
20181205 | G | Flexpoint Fund III, L.P.; Dexter Lake Club, Inc.; Flexpoint Fund III, L.P.
20181208 | G | Blackstone Core Equity Partners NQ L.P.; Green Equity Investors VI, L.P.; Blackstone Core Equity Partners NQ L.P.
05/15/2018
20181097 | G | Accel-KKR Capital Partners IV, LP; Brian Hamilton; Accel-KKR Capital Partners IV, LP.
05/16/2018
20181153 | G | David A. Tepper; Allergan plc; David A. Tepper.
20181154 | G | Appaloosa Investment Limited Partnership I; Allergan plc; Appaloosa Investment Limited Partnership I.
20181155 | G | Palomino Fund Ltd.; Allergan plc; Palomino Fund Ltd.
20181158 | G | Onex Partners IV LP; Vista Foundation Fund II, L.P.; Onex Partners IV LP.
20181160 | G | Onex Partners IV LP; Vista Equity Partners Fund V, L.P.; Onex Partners IV LP.
20181163 | G | TPG Partners VII, L.P.; Intel Corporation; TPG Partners VII, L.P.
20181190 | G | Linden Capital Partners IV-A LP; DFW Capital Partners V, L.P.; Linden Capital Partners IV-A LP.
20181200 | G | Edelman Financial, L.P.; Financial Engines, Inc.; Edelman Financial, L.P.
20181218 | G | Authentic Brands Group LLC; Jasper Parent LLC; Authentic Brands Group LLC.
05/18/2018
20181189 | G | North Haven Private Equity Asia IV, L.P.; Microlife Corporation; North Haven Private Equity Asia IV, L.P.
20181207 | G | 3i Group plc; John and Marcia Rowley, Trustees; 3i Group plc.
20181220 | G | Jazz Pharmaceuticals Public Limited Company; Spark Therapeutics, Inc.; Jazz Pharmaceuticals Public Limited Company.
20181223 | G | Linden Capital Partners IV-A LP; Tod Robinson; Linden Capital Partners IV-A LP.
20181224 | G | New Mountain Partners V, L.P.; MAG DS Corp.; New Mountain Partners V, L.P.
20181226 | G | ExlService Holdings, Inc.; SCIOinspire Holdings, Inc.; ExlService Holdings, Inc.
20181229 | G | Gryphon Partners V, L.P.; Ralph Bijou; Gryphon Partners V, L.P.
20181230 | G | Gryphon Partners V, L.P.; Laurie Minc; Gryphon Partners V, L.P.
20181231 | G | Eldorado Resorts, Inc.; MGM Resorts International; Eldorado Resorts, Inc.
20181232 | G | Eldorado Resorts, Inc.; Illinois RBG, L.L.C.; Eldorado Resorts, Inc.
05/21/2018
20181234 | G | Lindsay Goldberg III AIV DT (Direct) L.P.; Simple Tire LLC; Lindsay Goldberg III AIV DT (Direct) L.P.
20181235 | G | H.I.G. Middle Market LBO Fund II, L.P.; Conduent Incorporated; H.I.G. Middle Market LBO Fund II, L.P.
20181238 | G | Griffon Corporation; CIW Enterprises, Inc.; Griffon Corporation.
20181239 | G | Searchlight Capital II MLN Co-Invest Partners, L.P.; Mitel Networks Corporation; Searchlight Capital II MLN Co-Invest Partners, L.P.
20181249 | G | Ashford Inc.; Archie Bennett, Jr.; Ashford Inc.
20181250 | G | Ashford Inc.; Monty J. Bennett; Ashford Inc.
20181252 | G | Archie Bennett, Jr.; Ashford Inc.; Archie Bennett, Jr.
20181253 | G | Monty J. Bennett; Ashford Inc.; Monty J. Bennett.
20181259 | G | Del Frisco's Restaurant Group, Inc.; Barteca Holdings, LLC; Del Frisco's Restaurant Group, Inc.
20181264 | G | Riptide Acquisition 1, L.P.; RPX Corporation; Riptide Acquisition 1, L.P.
05/22/2018
20181171 | G | Trimble Inc.; Bain Capital Fund XI, L.P.; Trimble Inc.
20181181 | G | Francisco Partners V, L.P.; Hellman & Friedman Capital Partners VII, L.P.; Francisco Partners V, L.P.
20181215 | G | TA XII-A L.P.; Thompson Street Capital Partners IV, L.P.; TA XII-A L.P.
05/23/2018
20181172 | G | Philippe F Courtot; Qualys, Inc.; Philippe F Courtot.
20181219 | G | Cressey & Company Fund V, LP; Elite Dental Partners Holdings LLC; Cressey & Company Fund V, LP.
20181256 | G | Boyd Gaming Corporation; West Charitable Distribution Adviser, LLC; Boyd Gaming Corporation.
05/24/2018
20181166 | G | Berkshire Hathaway Inc.; Medical Liability Mutual Insurance Co.; Berkshire Hathaway Inc.
20181201 | G | Square, Inc.; Weebly, Inc.; Square, Inc.
20181209 | G | Trident VII, L.P.; KKR Magellan Aggregator L.P.; Trident VII, L.P.
20181210 | G | Senator Global Opportunity Offshore Fund II Ltd.; Gogo Inc.; Senator Global Opportunity Offshore Fund II Ltd.
20181212 | G | Composite Resins Holding B.V.; The Alpha Corporation of Tennessee; Composite Resins Holding B.V.
20181267 | G | J. Curtis Marvel and Cindy Marvel; Boral Limited; J. Curtis Marvel and Cindy Marvel.
05/25/2018
20180977 | G | Qatar Holding LLC; Hogg Robinson Group, plc; Qatar Holding LLC.
20180978 | G | American Express Company; Hogg Robinson Group, plc; American Express Company.
05/29/2018
20181152 | G | NICE Ltd.; Mattersight Corporation; NICE Ltd.
20181183 | G | Permira VI L.P. 1; Vedihold S.A.; Permira VI L.P. 1.
20181213 | G | Dexter Goei; Patrick Drahi; Dexter Goei.
20181268 | G | Massimo Candela; Mason Wells Buyout Fund III, L.P.; Massimo Candela.
20181270 | G | Centre Capital Investors VI, L.P.; Dr. David C. Pulver, MD; Centre Capital Investors VI, L.P.
20181272 | G | American Industrial Partners Capital Fund VI, LP; L3 Technologies, Inc.; American Industrial Partners Capital Fund VI, LP.
20181273 | G | Arthur J. Gallagher & Co.; Palladium Equity Partners IV, L.P.; Arthur J. Gallagher & Co.
20181274 | G | Permira VI L.P. 1; Cisco Systems, Inc.; Permira VI L.P. 1.
20181276 | G | Savage Companies; Marilyn and James Hebenstreit; Savage Companies.
20181278 | G | BlackRock, Inc.; TCP Holding, LP; BlackRock, Inc.
20181281 | G | Comvest Investment Partners V, L.P.; TorQuest Partners Fund III, L.P.; Comvest Investment Partners V, L.P.
20181282 | G | Carlyle Partners VI, L.P.; Newell Brands Inc.; Carlyle Partners VI, L.P.
20181283 | G | Roper Technologies, Inc.; Project Torque Ultimate Parent Corporation; Roper Technologies, Inc.
20181285 | G | John P. McConnell; Worthington Industries, Inc.; John P. McConnell.
20181286 | G | TransUnion; HPS Holding Company, LLC; TransUnion.
20181290 | G | ECN Capital Corp.; The Kessler Family Trust, Dated September 15, 1993; ECN Capital Corp.
20181309 | G | Eli Lilly and Company; ARMO BioSciences, Inc.; Eli Lilly and Company.
20181311 | G | Berwind Holding Corp.; Sentinel Capital Partners V, L.P.; Berwind Holding Corp.
20181314 | G | Belcan AE Co-Investment Partners, LP; Nicole R. Grove; Belcan AE Co-Investment Partners, LP.
20181315 | G | Marriott Vacations Worldwide Corporation; ILG, Inc.; Marriott Vacations Worldwide Corporation.
05/30/2018
20181289 | G | Sentinel Capital Partners V, L.P.; The Huron Fund IV L.P.; Sentinel Capital Partners V, L.P.
20181304 | G | IIF US Holding LP; ArcLight Energy Partners Fund V, L.P.; IIF US Holding LP.
20181312 | G | PPL Corporation; Denali Capital Mangement, LLC; PPL Corporation.
05/31/2018
20181202 | G | Zippy Shell Incorporated; Waste Management, Inc.; Zippy Shell Incorporated.
20181227 | G | Suzano Papel e Celulose S.A.; Hejoassu Administracao S.A.; Suzano Papel e Celulose S.A.
20181240 | G | Lindsay Goldberg IV L.P.; New Harbor Capital Fund, LP; Lindsay Goldberg IV L.P.
20181251 | G | JCF III AIV II LP; Encore Capital Group, Inc.; JCF III AIV II LP.
20181293 | G | OSRAM Licht AG; Build My LED, LLC; OSRAM Licht AG.
20181310 | G | Mondelez International, Inc.; Riverside Micro-Cap Fund III, L.P.; Mondelez International, Inc.

FOR FURTHER INFORMATION CONTACT:

Theresa Kingsberry, Program Support Specialist, Federal Trade Commission Premerger Notification Office, Bureau of Competition, Room CC-5301, Washington, DC 20024 (202) 326-3100.

By direction of the Commission.
Donald S. Clark,
Secretary.

[FR Doc. 2018-13188 Filed 6-19-18; 8:45 am]

BILLING CODE 6750-01-P